AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper pertormance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before November 8, 2010.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

ADDRESSES: Send comments via e-mail at hmaclean@usaid.gov or mail comments to: Heather MacLean, Center for Faith-Based and Community Initiatives (CFBCI), United States Agency for International Development, Ronald Reagan Building, Rm. 3.09-22, 1300 Pennsylvania Avenue, NW., Washington, DC 20523, (202) 712-1559.

SUPPLEMENTARY INFORMATION:

OMB No.: OMB 0412-New.

Form No.: N/A.

Title: USAID Faith-Based and Community Organization Survey.

Type of Review: New Information Collection.

Purpose

The Center for Faith-Based and Community Initiatives (CFBCI) supports the commitment from the White House and USAID to expand our partnership community by building broad and deep relationships with the nongovernmental organization (NGO) community at large. In order to better coordinate the Agency's work with NGOs and to improve the effectiveness and extent of the Agency's outreach to the NGO community, the CFBCI is requesting to send out a voluntary, electronic survey to contacts with NGOs who have previously interacted with or expressed interest in working with USAID and the CFBCI. The survey will request updated contact and organizational information on NGOs working in international development and humanitarian relief around the world. By collecting such information, the Agency will be able to engage these organizations in a more efficient and less duplicative way. In addition, it will allow the Agency to better monitor its success in engaging a broad range of NGOs.

Responding to the survey is optional. An organization's response or nonresponse will not have any impact—positive or negative on its future relationship with the Agency.

Annual Reporting Burden

Respondents: 4,000.

Total annual responses: 4,000.

Total annual hours requested: 1,000 hours.

Dated: August 23,2010.
Marilyn Collins,
Acting Director, Office of Administrative Services, Bureau for Management.

[FR Doc. 2010-21612 Filed 9-3-10; 8:45 am]

BILLING CODE 6116-01-M